ENVIRONMENTAL PROTECTION AGENCY

[EPA-HQ-OAR-2016-0546; FRL-9982-98-OEI]

Information Collection Request Submitted to OMB for Review and Approval; Comment Request; Aircraft Engines—Supplemental Information Related to Exhaust Emissions (Renewal)

AGENCY: Environmental Protection Agency (EPA).

ACTION: Notice.

SUMMARY: The Environmental Protection Agency (EPA) has submitted an information collection request (ICR), Aircraft Engines—Supplemental Information Related to Exhaust Emissions (EPA ICR Number 2427.04, OMB Control Number 2060-0680) to the Office of Management and Budget (OMB) for review and approval in accordance with the Paperwork Reduction Act. This is a proposed extension of the ICR, which is currently approved through September 30, 2018. Public comments were previously requested via the Federal Register on October 16th, 2017 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 1, 2018.

ADDRESSES: Submit your comments, referencing Docket ID Number EPA-HQ-OAR-2016-0546, to (1) EPA online using www.regulations.gov (our preferred method), a-and-r-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Cullen Leggett, Office of Transportation and Air Quality, Office of Air and Radiation, Environmental Protection Agency; telephone number: (734) 214-4514; fax number: (734) 214-4816; email address: leggett.cullen@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Using its Clean Air Act authority in sections 231 and 114, 42 U.S.C. 7571 and 7414, the EPA is proposing to renew the existing data collection requirement for new aircraft engines to report emissions information, production volumes, and technical parameters. Also, at this time, the EPA is proposing to amend this existing requirement to collect data on non-volatile particulate matter (nvPM) emissions from some classes of aircraft engines.

Form numbers: EPA Form Number: 5900-223.

Respondents/affected entities: Respondents affected by this action are the manufacturers of aircraft gas turbine engines. Manufacturers producing aircraft gas turbine engines with a sea level static thrust greater than 26.7 kN will be subject to the new requirement for nvPM reporting.

Respondent's obligation to respond: Mandatory (pursuant to section 114 of the Clean Air Act).

Estimated number of respondents: 7 (total).

Frequency of response: Annual.

Total estimated burden: 502 hours (per year). Burden is defined at 5 CFR 1320.03(b).

Total estimated cost: $43,199 (per year).

Changes in the estimates: There is an increase of 1,326 hours in the total estimated respondent burden compared with the ICR currently approved by OMB. This increase is due to the proposed amendment to the existing ICR for the collection of nvPM data from some classes of aircraft engines.

Courtney Kerwin,
Director, Regulatory Support Division.

[FR Doc. 2018-18953 Filed 8-30-18; 8:45 am]

BILLING CODE 6560-50-P